DEPARTMENT OF ENERGY

Federal Energy Regulatory Commission

[Docket No. CP15-549-000]

Columbia Gas Transmission, LLC; Notice of Schedule for Environmental Review of the SM-80 MAOP Restoration Project

On September 2, 2015, Columbia Gas Transmission, LLC (Columbia) filed an application in Docket No. CP15-549-000 requesting a Certificate of Public Convenience and Necessity pursuant to Sections 7(c) and 7(b) of the Natural Gas Act to abandon, construct, and operate certain natural gas pipeline facilities in Wayne County, West Virginia. The proposed project is known as the SM-80 MAOP Restoration Project (Project) and would restore the maximum allowable operating pressure of part of the SM-80 system.

On September 15, 2015, the Federal Energy Regulatory Commission (Commission or FERC) issued its Notice of Application for the Project. Among other things, that notice alerted agencies issuing federal authorizations of the requirement to complete all necessary reviews and to reach a final decision on a request for a federal authorization within 90 days of the date of issuance of the Commission staff's Environmental Assessment (EA) for the Project. This instant notice identifies the FERC staff's planned schedule for the completion of the EA for the Project.

Schedule for Environmental Review

Issuance of EA—5/18/16

90-Day Federal Authorization Decision Deadline—8/16/16

If a schedule change becomes necessary, additional notice will be provided so that the relevant agencies are kept informed of the Project's progress.

Project Description

Columbia proposes to abandon in place about 3.3 miles of 30-inch-diameter pipeline and associated aboveground appurtenances located on its existing SM-80 natural gas transmission system located in Wayne County, West Virginia. This section would be abandoned due to its age and condition. Columbia would also construct about 3.9 miles of 30-inch-diameter pipeline to replace the abandoned pipeline. The new pipeline would be co-located with the existing SM-80 Loop ¹ and other existing easements for 3.8 of the 3.9 miles.

¹ A pipeline loop is a segment of pipe constructed parallel to an existing pipeline to increase capacity.

Background

On October 15, 2015, the Commission issued a Notice of Intent to Prepare an Environmental Assessment for the Proposed SM-80 MAOP Restoration Project and Request for Comments on Environmental Issues (NOI). The NOI was sent to affected landowners; federal, state, and local government agencies; elected officials; environmental and public interest groups; Native American tribes; other interested parties; and local libraries and newspapers. In response to the NOI, the Commission received comments from two landowners. The primary issues raised by the commentors are the potential for soil and water contamination, impacts on wildlife, air, and noise, and cumulative impacts.

Additional Information

In order to receive notification of the issuance of the EA and to keep track of all formal issuances and submittals in specific dockets, the Commission offers a free service called eSubscription. This can reduce the amount of time you spend researching proceedings by automatically providing you with notification of these filings, document summaries, and direct links to the documents. Go to www.ferc.gov/docs-filing/esubscription.asp.

Additional information about the Project is available from the Commission's Office of External Affairs at (866) 208-FERC or on the FERC Web site (www.ferc.gov). Using the “eLibrary” link, select “General Search” from the eLibrary menu, enter the selected date range and “Docket Number” excluding the last three digits (i.e., CP15-549), and follow the instructions. For assistance with access to eLibrary, the helpline can be reached at (866) 208-3676, TTY (202) 502-8659, or at FERCOnlineSupport@ferc.gov. The eLibrary link on the FERC Web site also provides access to the texts of formal documents issued by the Commission, such as orders, notices, and rule makings.

Dated: April 11, 2016.
Nathaniel J. Davis, Sr.,
Deputy Secretary.

[FR Doc. 2016-08687 Filed 4-14-16; 8:45 am]

BILLING CODE 6717-01-P